DEPARTMENT OF TRANSPORTATION

Federal Aviation Administration

14 CFR Part 39

[Docket No. FAA-2024-1291; Project Identifier MCAI-2022-00901-R; Amendment 39-22811; AD 2024-16-05]

RIN 2120-AA64

Airworthiness Directives; Airbus Helicopters

AGENCY: Federal Aviation Administration (FAA), DOT.

ACTION: Final rule.

SUMMARY: The FAA is adopting a new airworthiness directive (AD) for all Airbus Helicopters Model SA330J helicopters. This AD was prompted by a report of a main rotor gearbox (MGB) flange assembly coupling (coupling) that was incorrectly assembled. This AD requires a one-time visual inspection to determine correct assembly of each sliding flange installed on each MGB coupling, and if necessary, further corrective actions. This AD also prohibits installing certain MGB couplings or any MGB equipped with certain MGB couplings on any helicopter. These requirements are specified in a European Union Aviation Safety Agency (EASA) AD, which is incorporated by reference. The FAA is issuing this AD to address the unsafe condition on these products.

DATES: This AD is effective October 21, 2024.

The Director of the Federal Register approved the incorporation by reference of a certain publication listed in this AD as of October 21, 2024.

ADDRESSES:

AD Docket: You may examine the AD docket at regulations.gov under Docket No. FAA-2024-1291; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; internet easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2024-1291.

Other Related Service Information: For Airbus Helicopters material, contact Airbus Helicopters, 2701 North Forum Drive, Grand Prairie, TX 75052; phone (972) 641-0000 or (800) 232-0323; fax (972) 641-3775; or at airbus.com/en/products-services/helicopters/hcare-services/airbusworld.

FOR FURTHER INFORMATION CONTACT: Hal Jensen, Aviation Safety Engineer, FAA; 3960 Paramount Boulevard, Lakewood, CA 90712; telephone (303) 342-1080; email hal.jensen@faa.gov.

SUPPLEMENTARY INFORMATION:

Background

EASA, which is the Technical Agent for the Member States of the European Union, has issued EASA AD 2022-0140, dated July 7, 2022 (EASA AD 2022-0140), to correct an unsafe condition on Airbus Helicopters Model SA 330 J helicopters, all serial numbers.

The FAA issued a notice of proposed rulemaking (NPRM) to amend 14 CFR part 39 by adding an AD that would apply to Airbus Helicopters Model SA330J helicopters, certificated in any category. The NPRM published in the Federal Register on May 15, 2024 (89 FR 42397). The NPRM was prompted by a report of an incorrectly assembled MGB coupling part number (P/N) 330A32-9392-01 which was installed in the reverse position, deviating from the assembly instructions.

In the NPRM, the FAA proposed to require accomplishing the actions specified in EASA AD 2022-0140, as incorporated by reference, except for any differences identified as exceptions in the regulatory text of this AD and except as discussed under “Differences Between this AD and the EASA AD.” This condition, which if not addressed, could lead to loss of the drive transmission from the left-hand or right-hand engine, and subsequent loss of control of the helicopter. The FAA is issuing this AD to address the unsafe condition on these products.

You may examine EASA AD 2022-0140 in the AD docket at regulations.gov under Docket No. FAA-2024-1291.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters.

Material Incorporated by Reference Under 1 CFR Part 51

EASA AD 2022-0140 requires a one-time inspection of the left-hand and right-hand MGB coupling P/N 330A32-9392-01 for correct assembly. If any MGB coupling is incorrectly assembled, EASA AD 2022-0140 requires replacing an affected MGB coupling with a serviceable MGB coupling. EASA AD 2022-0140 also prohibits installing an affected MGB coupling or an MGB equipped with an affected coupling installed, on any helicopter unless it has passed inspection requirements.

This material is reasonably available because the interested parties have access to it through their normal course of business or by the means identified in the ADDRESSES section.

Other Related Material

The FAA also reviewed Airbus Helicopters Alert Service Bulletin No. SA330-65.140, Revision 0, dated June 30, 2022, which specifies procedures for inspecting the assembly of the MGB coupling by ensuring the sliding flange is correctly assembled and there is no presence of embossments. This material also specifies procedures for replacing an affected MGB coupling with a correctly assembled MGB coupling and instructions to send affected parts to Airbus Helicopters.

Differences Between This AD and the EASA AD

If any incorrectly assembled MGB coupling is found during the inspection, EASA AD 2022-0140 requires replacing each affected part with a serviceable part, whereas this AD requires removing each affected part from service and replacing it with a serviceable part, as defined in EASA AD 2022-0140.

Service information referenced in EASA AD 2022-0140 specifies reporting certain information and sending affected parts to Airbus Helicopters, whereas this AD does not require sending information or parts to Airbus Helicopters.

Costs of Compliance

The FAA estimates that this AD affects 7 helicopters of U.S. registry. Labor rates are estimated at $85 per work-hour. Based on these numbers, the FAA estimates the following costs to comply with this AD.

Visually inspecting each MGB coupling will take approximately 4 work-hours for an estimated cost of $340 per helicopter and up to $2,380 for the U.S. fleet.

If required, removing and replacing the MGB coupling will take approximately 8 work-hours and parts will cost approximately $23,215 for an estimated cost of $23,895 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-16-05 Airbus Helicopters: Amendment 39-22811; Docket No. FAA-2024-1291; Project Identifier MCAI-2022-00901-R.

(a) Effective Date

This airworthiness directive (AD) is effective October 21, 2024.

(b) Affected ADs

None.

(c) Applicability

This AD applies to all Airbus Helicopters Model SA330J helicopters, certificated in any category.

(d) Subject

Joint Aircraft System Component (JASC) Code: 6320, Main rotor gearbox.

(e) Unsafe Condition

This AD was prompted by a report of an incorrectly assembled main rotor gearbox (MGB) flange assembly coupling (coupling). The FAA is issuing this AD to detect and address incorrectly assembled MGB couplings. The unsafe condition, if not addressed, could result in loss of the drive transmission from the left-hand or right-hand engine, and subsequent loss of control of the helicopter.

(f) Compliance

Comply with this AD within the compliance times specified, unless already done.

(g) Requirements

Except as specified in paragraphs (h) and (i) of this AD: Comply with all required actions and compliance times specified in, and in accordance with, European Union Aviation Safety Agency (EASA) AD 2022-0140, dated July 7, 2022 (EASA AD 2022-0140).

(h) Exceptions to EASA AD 2022-0140

(1) Where EASA AD 2022-0140 requires compliance in terms of flight hours, this AD, requires using hours time-in-service.

(2) Where EASA AD 2022-0140 refers to its effective date, this AD requires using the effective date of this AD.

(3) Where paragraph (1) of EASA AD 2022-0140 states, “in accordance with the instructions of the ASB,” for this AD, replace that text with “in accordance with the Accomplishment Instructions, paragraph 3.B.2.b. of the ASB, except you are not required to comply with paragraph 3.B.2.c.”

(4) Where paragraph (2) of EASA AD 2022-0140 states to “replace the affected part with a serviceable part, in accordance with the instructions of the ASB” for this AD, replace that text with “remove the affected part, as defined in EASA AD 2022-0140, from service and replace it with a serviceable part, as defined in EASA AD 2022-0140, in accordance with the Accomplishment Instructions, paragraph 3.B.2.d. of the ASB, except you are not required to send an affected part to Airbus Helicopters or comply with paragraphs 2.D or 3.B.3 of the ASB.”

(5) Where the service information referenced in EASA AD 2022-0140 specifies “install a flange assy coupling (1) correctly assembled,” for this AD, replace that text with “install a correctly assembled MGB coupling.”

(6) This AD does not adopt the “Remarks” section of EASA AD 2022-0140.

(i) No Reporting or Return of Parts

Although the service information referenced in EASA AD 2022-0140 specifies to submit certain information and return parts to the manufacturer, this AD does not require those actions.

(j) Special Flight Permits

Special flight permits may be issued in accordance with 14 CFR 21.197 and 21.199 in order to fly to a maintenance area to perform the required actions in this AD, provided there are no passengers onboard.

(k) Alternative Methods of Compliance (AMOCs)

(1) The Manager, West Certification Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l) of this AD. Information may be emailed to 9-ANM-LAACO-AMOC@faa.gov.

(2) Before using any approved AMOC, notify your appropriate principal inspector, or lacking a principal inspector, the manager of the local flight standards district office/certificate holding district office.

(l) Related Information

For more information about this AD, contact Hal Jensen, Aviation Safety Engineer, FAA; 3960 Paramount Boulevard, Lakewood, CA 90712; telephone (303) 342-1080; email hal.jensen@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2022-0140, dated July 7, 2022.

(ii) [Reserved]

(3) For EASA material identified in this AD, contact EASA, Konrad-Adenauer-Ufer 3, 50668 Cologne, Germany; telephone +49 221 8999 000; email ADs@easa.europa.eu; internet easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on September 10, 2024.
Victor Wicklund,
Deputy Director, Compliance & Airworthiness Division, Aircraft Certification Service.

[FR Doc. 2024-20844 Filed 9-13-24; 8:45 am]

BILLING CODE 4910-13-P